DEPARTMENT OF HEALTH AND HUMAN SERVICES

Public Health Service

42 CFR Parts 70 and 71

RIN 0920-AA03

Control of Communicable Diseases

AGENCY: Centers for Disease Control and Prevention (CDC), Public Health Service (PHS), Department of Health and Human Services (HHS).

ACTION: Interim final rule with comment period.

SUMMARY: The Public Health Service Act authorizes the Secretary, in consultation with the Surgeon General, to make and enforce regulations as are necessary to prevent the introduction, transmission or spread of communicable diseases from foreign countries into the States or possessions, or from one State or possession into any other State or possession. The existing regulations are outdated and do not address communicable diseases that currently pose a substantial public health threat.

As of April 2, 2003, the World Health Organization (WHO) has reported 2236 cases and 78 deaths related to outbreaks of a severe form of pneumonia of unknown origin in Hong Kong SAR, Vietnam, Guangdong province in southern China, Canada, Singapore, and Thailand, which appears to have spread rapidly. For this reason, the Director General of the World Health Organization (WHO) issued a global alert about cases of atypical pneumonia and recommended that travelers with atypical pneumonia who may be related to these outbreaks be placed into isolation and assessed by quarantine officials. The Centers for Disease Control and Prevention (CDC) is currently investigating 85 suspected cases of the disease in the United States. This is being issued as an interim final rule because this newly-detected disease is likely spread in person-to-person fashion and may have an adverse public health impact if further introduced into the United States.

DATES: This rule is effective on April 10, 2003. Comments must be submitted by June 9, 2003.

ADDRESSES: Mail written comments to the following address: Jennifer Brooks, National Center for Infectious Diseases, Centers for Disease Control and Prevention, 1600 Clifton Road, NE., Atlanta, GA 30333; telephone (404) 639-2763. Mail written comments on the proposed information collection requirements to Office of Information and Regulatory Affairs, OMB, New Executive Office Building, 725 17th Street, NW., rm. 10235, Washington, DC 20503, Attn: Desk Officer for CDC.

FOR FURTHER INFORMATION CONTACT: James E. Barrow, National Center for Infectious Diseases (E03), Centers for Disease Control and Prevention, 1600 Clifton Road, NE., Atlanta, GA 30333; telephone (404) 498-1604.

SUPPLEMENTARY INFORMATION:

Background and Purpose

This interim final rule, which was reviewed by the Office of Management and Budget in accordance with Executive Order 12866, is being promulgated in accordance with U.S.C. 42 section 264 (section 361 of the PHS Act) which authorizes the Secretary, in consultation with the Surgeon General, to make and enforce regulations as are necessary to prevent the introduction, transmission or spread of communicable diseases from foreign countries into the States or possessions, or from one State or possession into any other State or possession. The quarantine of persons believed to be infected with communicable diseases is a public health prevention measure that has been used effectively to contain the spread of disease. The existing regulations are outdated and do not address communicable diseases that currently pose a substantial public health threat.

The Public Health Service Act gives the Secretary of HHS responsibility for preventing the introduction, transmission, and spread of communicable diseases from foreign countries into the United States and from one State or possession into another within the United States. Under its delegated authority, the CDC Division of Global Migration and Quarantine is empowered to detain, medically examine, or conditionally release individuals suspected of carrying a communicable disease. The list of quarantinable diseases is contained in an Executive Order of the President.

Waiver of Prior Notice and Comment and Waiver of Delay in Effective Date

This rule is being issued on an interim final basis with no prior notice and comment and no delay in effective date. As of April 2, 2003, the WHO has reported 2236 cases and 78 deaths of severe pneumonia-like illness of unknown origin in a growing number of countries. Several countries, including Canada, Hong Kong SAR, and Singapore have instituted maximum health measures, including quarantine, to prevent the further spread of the disease. The CDC is currently investigating 85 suspected cases of the disease in the United States. While no deaths have been reported in the United States, the potentially fatal disease is likely spread in person-to-person fashion and may have an adverse public health impact if further spread. Accordingly, appropriate public health control measures including quarantine need to be available immediately to protect against this threat.

Changes to 42 CFR Parts 70 and 71

Following is a summary of changes to the current regulations:

Sections modified:

70.6 Apprehension and detention of persons with specific diseases.

71.32 Persons, carriers, and things.

Plain Language Instructions

We try to write clearly. If you can suggest how to improve the clarity of these regulations, call or write Jennifer Brooks at the address listed above.

List of Subjects

42 CFR Part 70

Communicable diseases, Public health, Quarantine, Reporting and recordkeeping requirements, Travel restrictions.

42 CFR Part 71

Airports, Animals, Communicable diseases, Harbors, Imports, Pesticides and pests, Public health, Quarantine, Reporting and recordkeeping requirements.

For the reasons stated in the preamble, we are amending 42 CFR part 70 and Part 71 as follows.

PART 70—INTERSTATE QUARANTINE

1. The authority for part 70 is revised to read as follows:

Authority: Secs. 215 and 311 of Public Health Service (PHS) Act. as amended (42 U.S.C. 216, 243); secs. 361-369, PHS Act, as amended (42 U.S.C. 264-272).

2. Revise Section 70.6 to read as follows:

§ 70.6 Apprehension and detention of persons with specific diseases.

Regulations prescribed in this part authorize the detention, isolation, quarantine, or conditional release of individuals, for the purpose of preventing the introduction, transmission, and spread of the communicable diseases listed in an Executive Order setting out a list of quarantinable communicable diseases, as provided under section 361(b) of the Public Health Service Act. Executive Order 13295, of April 4, 2003, contains the current revised list of quarantinable communicable diseases, and may be obtained at http://www.cdc.gov, or at http://www.archives.gov/federal_register. If this Order is amended, HHS will enforce that amended order immediately and update this reference.

PART 71—FOREIGN QUARANTINE

1. The authority for part 71 is revised to read as follows:

Authority: Secs. 215 and 311 of Public Health Service (PHS) Act. as amended (42 U.S.C. 216, 243); secs. 361-369, PHS Act, as amended (42 U.S.C. 264-272).

2. Revise Section 71.32 to read as follows:

§ 71.32 Persons, carriers, and things

(a) Whenever the Director has reason to believe that any arriving person is infected with or has been exposed to any of the communicable diseases listed in an Executive Order, as provided under section 361(b) of the Public Health Service Act, he/she may isolate, quarantine, or place the person under surveillance and may order disinfection or disinfestation, fumigation, as he/she considers necessary to prevent the introduction, transmission or spread of the listed communicable diseases. Executive Order 13295, of April 4, 2003, contains the current revised list of quarantinable communicable diseases, and may be obtained at http://www.cdc.gov and http://www.archives.gov/federal_register. If this Order is amended, HHS will enforce that amended order immediately and update this reference.

(b) Whenever the Director has reason to believe that any arriving carrier or article or thing on board the carrier is or may be infected or contaminated with a communicable disease, he/she may require detention, disinfection, disinfestation, fumigation, or other related measures respecting the carrier or article or thing as he/she considers necessary to prevent the introduction, transmission, or spread of communicable diseases.

Dated: April 4, 2003.
Tommy G. Thompson,
Secretary.

[FR Doc. 03-8736 Filed 4-8-03; 12:42 pm]

BILLING CODE 4160-17-P